DEPARTMENT OF ENERGY

Federal Energy Regulatory Commission

[Docket No. RP00-535-009]

Texas Eastern Transmission, LP; Notice of Compliance Filing

March 11, 2004.

Take notice that on March 8, 2004, Texas Eastern Transmission, LP (Texas Eastern) tendered for filing as part of its FERC Gas Tariff, Seventh Revised Volume No. 1, the following tariff sheets, effective March 4, 2003:

Sub First Revised Sheet No. 522

Second Sub First Revised Sheet No. 528

Second Sub First Revised Sheet No. 802

Second Sub First Revised Sheet No. 816

Second Sub First Revised Sheet No. 831

Second Sub First Revised Sheet No. 863

Second Sub First Revised Sheet No. 878

Second Sub First Revised Sheet No. 890B

Second Sub First Revised Sheet No. 947

Second Sub First Revised Sheet No. 960

Texas Eastern states that the purpose of this filing is to comply with the Commission's Order issued in the captioned docket on February 27, 2004 (February 27 Order). Texas Eastern states that it is making changes in section 3.13 of its General Terms and Conditions related to the right of first refusal, as well as changes in its service agreements, as required by the February 27 Order, to conform to other tariff revisions previously made in this proceeding.

Texas Eastern states that copies of its filing have been served on all affected customers, interested state commissions, and all parties on the Commission's official service list in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-627 Filed 3-18-04; 8:45 am]

BILLING CODE 6717-01-P